DEPARTMENT OF HEALTH AND HUMAN SERVICES

Centers for Medicare and Medicaid Services

[Document Identifier: CMS-10078]

Emergency Clearance: Public Information Collection Requirements Submitted to the Office of Management and Budget (OMB)

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320. This is necessary to ensure compliance with the Trade Act of 2002. We cannot reasonably comply with the normal clearance procedures because of an unanticipated event and public harm.

President Bush signed into law on August 6, 2002, the Trade Act of 2002. Additionally, the law provided funding of $20 million in Fiscal Year (FY) 2003 for seed grants to states to create high risk insurance pools and $80 million ($40 million in FY 2003 and $40 million in FY 2004) for matching grants to states for the operation of existing high risk pools. The provision in the legislation about high risk pools was unanticipated. (High risk pools are a mechanism for states to provide health coverage to individuals who cannot obtain health insurance in the private market because of a history of illnesses.)

In addition, public harm will result if funding to the states is delayed in any manner. The purpose of the grant program is to provide money to the states to expand the coverage in the high risk pools to make it available to more individuals. Any delay in the funding, therefore, would result in a delay in individuals obtaining health care for their illnesses. Because of this, the Bush Administration has instructed that this program to be enacted as quickly as possible.

CMS is requesting OMB review and approval of this collection by January 3, 2003, with a 180-day approval period. Written comments and recommendations will be accepted from the public if received by the individuals designated below by January 2, 2003. During this 180-day period, we will publish a separate Federal Register notice announcing the initiation of an extensive 60-day agency review and public comment period on these requirements. We will submit the requirements for OMB review and an extension of this emergency approval.

Type of Information Collection Request: New collection; Title of Information Collection: Matching Grants to States for the Operation of High Risk Pools; Form No.: CMS-10078 (OMB# 0938-XXXX); Use: HHS/CMS is requiring this information as a condition of eligibility for grants that were authorized in the Trade Act of 2002 (Pub. L. 107-210). The information is necessary to determine if a state applicant meets the necessary eligibility criteria for a grant as required by the law. The respondents will be states that have a high risk pool as defined in section 2744(c)(2) of the Public Health Service Act. The grants will provide matching funds to states that incur losses in the operation of high risk pools. High risk pools are set up by states to provide heatlh insurance to individuals that cannot obtain health insurance in the private market because of a history of illness; Frequency: On occasion; Affected Public: State, local, or tribal government; Number of Respondents: 20; Total Annual Responses: 20; Total Annual Hours: 800.

We have submitted a copy of this notice to OMB for its review of these information collections. A notice will be published in the Federal Register when approval is obtained.

To obtain copies of the supporting statement and any related forms for the proposed paperwork collections referenced above, access CMS' Web Site address at http://cms.hhs.gov/regulations/pra/default.asp or E-mail your request, including your address, phone number, OMB number, and CMS document identifier, to Paperwork@hcfa.gov, or call the Reports Clearance Office on (410) 786-1326.

Interested persons are invited to send comments regarding the burden or any other aspect of these collections of information requirements. However, as noted above, comments on these information collection and recordkeeping requirements must be mailed and/or faxed to the designees referenced below, by December 30, 2002.

Centers for Medicare and Medicaid Services, Office of Strategic Operations and Regulatory Affairs, Division of Regulations Development and Issuances, Room C5-16-03, 7500 Security Boulevard, Baltimore, MD 21244-1850. Fax Number: (410) 786-3064. Attn: Julie Brown.

and,

Office of Information and Regulatory Affairs, Office of Management and Budget, Room 10235, New Executive Office Building, Washington, DC 20503, Fax Number: (202) 395-6974 or (202) 395-5167. Attn: Brenda Aguilar, CMS Desk Officer.

Dated: December 10, 2002.
John P. Burke, III,
CMS Reports Clearance Officer, CMS, Office of Information Services, Security and Standards Group, Division of CMS Enterprise Standards.

[FR Doc. 02-31923 Filed 12-18-02; 8:45 am]

BILLING CODE 4120-03-P